DEPARTMENT OF COMMERCE

Submission for OMB Review; Comment Request; Licensing Responsibilities and Enforcement

The Department of Commerce will submit to the Office of Management and Budget (OMB) for clearance the following proposal for collection of information under the provisions of the Paperwork Reduction Act (44 U.S.C. Chapter 35).

Agency: Bureau of Industry and Security.

Title: Licensing Responsibilities and Enforcement.

Form Number(s): N/A.

OMB Control Number: 0694-0122.

Type of Review: Regular submission.

Estimated Total Annual Burden Hours: 78,576.

Estimated Number of Respondents: 1,821,891.

Estimated Time per Response: 5 seconds to 2 hours.

Needs and Uses: This collection of information involves nine miscellaneous activities described in section 758 of the Export Administration Regulation (EAR) that are associated with the export of items controlled by the Department of Commerce. Most of these activities do not involve submission of documents to BIS but instead involve exchange of documents among parties in the export transaction to insure that each party understands its obligations under U.S. law. Others involve writing certain export control statements on shipping documents or reporting unforeseen changes in shipping and disposition of exported commodities. These activities are needed by the Office of Export Enforcement and the U.S. Customs Service to document export transactions, enforce the EAR and protect the National Security of the United States.

Affected Public: Business or other for-profit organizations.

Frequency: On occasion.

Respondent's Obligation: Voluntary.

This information collection request may be viewed at reginfo.gov http://www.reginfo.gov/public/ Follow the instructions to view Department of Commerce collections currently under review by OMB.

Written comments and recommendations for the proposed information collection should be sent within 30 days of publication of this notice to OIRA_Submission@omb.eop.gov

Sheleen Dumas,
Department Lead PRA Officer, Office of the Chief Information Officer.

[FR Doc. 2018-19415 Filed 9-6-18; 8:45 am]

BILLING CODE 3510-33-P